DEPARTMENT OF COMMERCE

National Oceanic and Atmospheric Administration

RIN 0648-XD131

Takes of Marine Mammals Incidental to Specified Activities; Taking Marine Mammals Incidental to Construction of the Block Island Transmission System

AGENCY: National Marine Fisheries Service (NMFS), National Oceanic and Atmospheric Administration (NOAA), Commerce.

ACTION: Notice; proposed revised incidental harassment authorization; request for comments.

SUMMARY: NMFS received a joint request from Deepwater Wind Block Island Transmission, LLC (DWBIT) and the Narragansett Electric Company (a subsidiary of National Grid USA), doing business as National Grid (TNEC), to transfer from DWBIT to TNEC, a Marine Mammal Protection Act (MMPA) one-year Incidental Harassment Authorization (IHA) to take marine mammals, by harassment, incidental to construction of the Block Island Transmission System (BITS), following the sale of the BITS from DWBIT to TNEC. No other changes are proposed. NMFS is inviting comments on the proposed transfer of the BITS IHA from DWBIT to TNEC.

DATES: Comments and information must be received no later than May 13, 2015.

ADDRESSES: Comments on the proposed revised IHA should be addressed to Jolie Harrison, Chief, Permits and Conservation Division, Office of Protected Resources, National Marine Fisheries Service, 1315 East-West Highway, Silver Spring, MD 20910. The mailbox address for providing email comments is itp.fiorentino@noaa.gov. Comments sent via email, including all attachments, must not exceed a 10-megabyte file size. NMFS is not responsible for comments sent to addresses other than those provided here.

Instructions: All comments received are a part of the public record and will generally be posted to http://www.nmfs.noaa.gov/pr/permits/incidental/ without change. All Personal Identifying Information (for example, name, address, etc.) voluntarily submitted by the commenter may be publicly accessible. Do not submit Confidential Business Information or otherwise sensitive or protected information.

An electronic copy of DWBIT's original IHA application and current IHA for the BITS may be obtained by visiting the internet at: http://www.nmfs.noaa.gov/pr/permits/incidental/. NMFS prepared an Environmental Assessment and Finding of No Significant Impact on the issuance of the BITS IHA on August 21, 2014 which are available at the same internet address.

FOR FURTHER INFORMATION CONTACT: John Fiorentino, Office of Protected Resources, NMFS, (301) 427-8477.

SUPPLEMENTARY INFORMATION:

Background

Sections 101(a)(5)(A) and (D) of the MMPA (16 U.S.C. 1361 et seq.) direct the Secretary of Commerce to allow, upon request, the incidental, but not intentional, taking of small numbers of marine mammals by U.S. citizens who engage in a specified activity (other than commercial fishing) within a specified geographical region if certain findings are made and either regulations are issued or, if the taking is limited to harassment, a notice of a proposed authorization is provided to the public for review.

An authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth.

Summary of Request

On August 22, 2014, NMFS issued an IHA to DWBIT to take marine mammals, by Level B harassment, incidental to construction of the BITS, effective from November 1, 2014 through October 31, 2015 (79 FR 51314). On January 30, 2015, DWBIT sold the BITS, in its entirety, to TNEC. The BITS, a bi-directional submarine transmission cable, will interconnect Block Island to TNEC's existing distribution system in Narragansett, Rhode Island. To date, no construction has occurred.

DWBIT and TNEC subsequently submitted a written request to transfer the current IHA from DWBIT to TNEC. With the transfer of the BITS IHA, TNEC agrees to comply with the associated terms, conditions, stipulations, and restrictions of the original BITS IHA. No other changes were requested. The revised IHA, if issued, would remain effective from November 1, 2014, through October 31, 2015.

This Federal Register notice sets forth only a proposed change in the BITS IHA holder's name. There are no other changes to the current IHA as described in the August 28, 2014, Federal Register notice of a final IHA (79 FR 51314): the specified activity; description of marine mammals in the area of the specified activity; potential effects on marine mammals and their habitat; mitigation and related monitoring used to implement mitigation; reporting; estimated take by incidental harassment; negligible impact and small numbers analyses and determinations; impact on availability of affected species or stocks for subsistence uses and the period of effectiveness remain unchanged and are herein incorporated by reference.

Proposed Revision to BITS IHA

NMFS is proposing a change in the name of the holder of the BITS IHA from “Deepwater Wind Block Island Transmission, LLC, 56 Exchange Terrace, Suite 101, Providence, Rhode Island, 02903” to “The Narragansett Electric Company, d/b/a National Grid, 40 Sylvan Road, Waltham, Massachusetts, 02451.”

Request for Public Comments

NMFS invites comment on the proposed revised IHA. Please include with your comments any supporting data or literature citations to help inform our final decision on DWBIT and TNEC's request for transfer of the BITS MMPA authorization.

Dated: April 8, 2015.
Wanda L. Cain,
Acting Director, Office of Protected Resources, National Marine Fisheries Service.

[FR Doc. 2015-08461 Filed 4-10-15; 8:45 am]

BILLING CODE 3510-22-P